DEPARTMENT OF HOMELAND SECURITY

[Docket No. DHS-2009-0083]

Office of Operations Coordination; Homeland Security Information Network Advisory Committee

AGENCY: Department of Homeland Security.

ACTION: Committee management; request for applicants for appointment to the Homeland Security Information Network Advisory Committee.

SUMMARY: The Office of Operations Coordination at the Department of Homeland Security is requesting individuals who are interested in serving on the Homeland Security Information Network Advisory Committee (HSINAC) to apply for appointment. The HSINAC provides advice and makes recommendations to the leadership of the Department of Homeland Security, particularly the Director, Office of Operations Coordination, on the requirements of end users within State, Local, Federal and Tribal governments and the Private Sector regarding the Homeland Security Information Network (HSIN).

DATES: Applications for membership should reach the Department of Homeland Security at the address below on or before July 24, 2009.

ADDRESSES: If you wish to apply for membership, your application should be submitted to:

• E-mail: hsinac@dhs.gov.

• Fax: 202-282-8806.

FOR FURTHER INFORMATION CONTACT: HSINAC Designated Federal Officer, Gabrielle Gallegos at 202-282-8193.

SUPPLEMENTARY INFORMATION: The Homeland Security Information Network Advisory Committee is an advisory committee established in accordance with the provisions of the Federal Advisory Committee Act (FACA) (Title 5, U.S.C., Annotated, Appendix 2).

HSINAC membership shall include not more than 20 representatives from State, Tribal and Local governments and the Private Sector, who are outstanding within their specialty field, and who have the experience to ensure the Director, and DHS leadership, is informed of the needs and requirements of the information network users and communities of users. Members will be drawn from currently serving Homeland Security Advisors; State, Tribal, or Local Law Enforcement; Federal Law Enforcement; the Fire Service; Public Health; Emergency Managers; Tribal government; and the Private Sector.

The committee will convene at least twice per year. Travel and per diem will be provided by the Department. Term length shall generally be up to 3 years, and the expiration of terms of office shall be staggered to promote continuity and an orderly turnover of committee membership.

A security clearance is preferred, but is not a requirement for appointment to the committee. Those applicants who do not have a security clearance may be required to undergo a background investigation.

HSINAC members will be appointed as Special Government Employees (SGEs) as such term is defined for purposes of 18 U.S.C. 202(a). Appointments will be made by the Department of Homeland Security Secretary who will receive recommendations from the Office of Operations Coordination Director.

Committee members serve as SGEs, and members are required to complete Confidential Financial Disclosure Reports (OGE Form 450). DHS may not release the reports or the information in them to the public except under an order issued by a Federal court or as otherwise provided under the Privacy Act (5 U.S.C. 552a).

In order to apply, applicants must submit a detailed resume and bio covering their professional backgrounds, and a brief letter stating the applicant's interest in HSINAC membership and addressing the following issues:

• List previous or current service on any Federal advisory panel, committee, or subcommittee.

• Provide any public statements made about HSIN, if possible.

• Indicate degree of experience using HSIN and list the portals the applicant uses.

• Indicate willingness to serve at least two years on the committee.

• Indicate the community to which the applicant belongs (Homeland Security Advisors; State, Tribal, or Local Law Enforcement; Federal Law Enforcement; the Fire Service; Public Health; Emergency Managers; Tribal government; or the Private Sector).

It is recommended that applicants contact the HSINAC Designated Federal Officer prior to submitting application materials.

In support of the policy of the Department of Homeland Security on gender and ethnic diversity, qualified women and minorities are encouraged to apply for membership.

Dated: May 29, 2009.
Mary Kruger,
Chief of Staff, Office of Operations Coordination, U.S. Department of Homeland Security.

[FR Doc. E9-13515 Filed 6-8-09; 8:45 am]

BILLING CODE 9110-9A-P